ENVIRONMENTAL PROTECTION AGENCY

[OPP-2004-0345; FRL-7683-6]

Pesticide Program Dialogue Committee and Endangered Species Workshop; Notice of Public Meeting

AGENCY: Environmental Protection Agency (EPA).

ACTION: Notice.

SUMMARY: EPA's Pesticide Program Dialogue Committee (PPDC) will hold a public meeting on October 21 and 22, 2004. An agenda is being developed and will be posted on EPA's website by October 7. Agenda topics will include a report from PPDC's Registration Review Work Group; a preview of the pesticide program's budget; the Pesticide Safety Education Program; endangered species; brief updates on human testing, anticipated residue policy, termiticide bait draft Pesticide Registration Notice, and activity-based re-entry intervals (REI's). There will also be brief reports from the Committee's other Work Groups, the PRIA (Pesticide Registration Improvement Act) Process Improvements Work Group and the Consumer Pesticide Label Improvement Work Group, as well as a presentation on tribal pesticide program issues. On October 20, the day preceding the PPDC meeting, there will be an Endangered Species Workshop which is also open to the public. The Workshop will involve discussion of a case study using a specific pesticide to demonstrate how the Agency conducts screening level and species-specific assessments following the Technical Overview document which can be found at: http://www.epa.gov/espp/consultation/ecorisk-overview.pdf.

DATES: The PPDC meeting will be held on Thursday, October 21, 2004, from 9 a.m. to 5:15 p.m. and on Friday, October 22, 2004, from 9 a.m. to 12:45 p.m.

The Endangered Species Workshop will be held on Wednesday, October 20, 2004, from 9 a.m. to 5 p.m.

ADDRESSES: Both the PPDC meeting and Workshop will be held at the Radisson Hotel Old Town, 901 N Fairfax St., Alexandria, VA 22314. The hotel telephone number is (703) 683-6000. The Radisson is 12 blocks from the Braddock Road Metro station (on the blue and yellow lines) and two miles from Ronald Reagan National Airport, with courtesy transportation available from the airport and its Metro station.

FOR FURTHER INFORMATION CONTACT: Margie Fehrenbach, Office of Pesticide Programs, Mail code 7501C, Environmental Protection Agency, 1200 Pennsylvania Ave., NW., Washington, DC 20460-0001; telephone number: (703) 308-4775; fax number: (703) 308-4776; e-mail address: Fehrenbach.Margie@epa.gov.

SUPPLEMENTARY INFORMATION:

I. General Information

A. Does this Action Apply to Me?

This action is directed to the public in general, and may be of particular interest to persons who work in agricultural settings or persons who are concerned about implementation of the Federal Insecticide, Fungicide, and Rodenticide Act (FIFRA); the Federal Food, Drug, and Cosmetic Act (FFDCA); and the amendments to both of these major pesticide laws by the Food Quality Protection Act (FQPA) of 1996. Since other entities may also be interested, the Agency has not attempted to describe all the specific entities that may be affected by this action. Potentially affected entities may include but are not limited to: Agricultural workers and farmers; pesticide industry and trade associations; environmental, consumer, and farmworker groups; pesticide users and growers; pest consultants; State, local, and Tribal governments; academia; public health organizations; food processors; and the public. If you have any questions regarding the applicability of this action to a particular entity, consult the person listed under FOR FURTHER INFORMATION CONTACT.

B. How Can I Get Copies of this Document and Other Related Information?

1. Docket. EPA has established an official public docket for this action under docket identification (ID) number OPP-2004-0345. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 South Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Background

EPA's Office of Pesticide Programs is entrusted with responsibility to help ensure the safety of the American food supply, the education and protection from unreasonable risk of those who apply or are exposed to pesticides occupationally or through use of products, and general protection of the environment and special ecosystems from potential risks posed by pesticides.

PPDC was established under the Federal Advisory Committee Act (FACA), Public Law 92-463, in September 1995, for a 2-year term and has been renewed every 2 years since that time. PPDC provides advice and recommendations to the Office of Pesticide Programs on a broad range of pesticide regulatory, policy, and program implementation issues that are associated with evaluating and reducing risks from use of pesticides. The following sectors are represented on the PPDC: Pesticide industry and trade associations; environmental/public interest and consumer groups; farm worker organizations; pesticide user, grower, and commodity groups; Federal and State/local/Tribal governments; the general public; academia; and public health organizations.

Copies of the PPDC Charter are filed with appropriate committees of Congress and the Library of Congress and are available upon request.

List of Subjects

Environmental protection, Agricultural workers, Agriculture, Chemicals, Foods, Pesticides, Pests, Public health, Risk assessment, Tolerance reassessment.

Dated: September 27, 2004.
James Jones,
Director, Office of Pesticide Programs.

[FR Doc. 04-22236 Filed 10-1-04; 8:45 am]

BILLING CODE 6560-50-S